FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than January 29, 2018.

A. Federal Reserve Bank of Atlanta (Kathryn Haney, Director of Applications) 1000 Peachtree Street NE, Atlanta, Georgia 30309. Comments can also be sent electronically to Applications.Comments@atl.frb.org:

1. FCB Financial Holdings, Inc., Weston, Florida; to acquire Floridian Community Holdings, and thereby acquire Floridian Community Bank, both Davie, Florida; and to establish Floridian Custody Services, Inc., Davie, Florida, and thereby engage in certain institutional broker-dealer activities, pursuant to sections 4(k) and 4(j) of the Bank Holding Company Act.

B. Federal Reserve Bank of Chicago (Colette A. Fried, Assistant Vice President) 230 South LaSalle Street, Chicago, Illinois 60690-1414:

1. Farmington Bancorp, Inc., Farmington, Illinois; to acquire Laura State Bank, Williamsfield, Illinois.

C. Federal Reserve Bank of Dallas (Robert L. Triplett III, Senior Vice President) 2200 North Pearl Street, Dallas, Texas 75201-2272:

1. The 2013 Monte Hulse Family Irrevocable Trust I, Waco, Texas; to acquire up to 30 percent of the voting shares of FCT Bancshares, Inc., and thereby indirectly acquire voting shares of First National Bank of Central Texas, both Waco, Texas.

D. Federal Reserve Bank of Kansas City (Dennis Denney, Assistant Vice President) 1 Memorial Drive, Kansas City, Missouri 64198-0001:

1. Caldwell County Bancshares, Inc., Hamilton, Missouri; to acquire Horizon State Bank, Cameron, Missouri.

2. First State Holding Co., Lincoln, Nebraska; to acquire Wallco, Inc., and thereby indirectly acquire The Nehawka Bank, both Nehawka, Nebraska.

E. Federal Reserve Bank of Richmond (Adam M. Drimer, Assistant Vice President) 701 East Byrd Street, Richmond, Virginia 23261-4528. Comments can also be sent electronically to Comments.applications@rich.frb.org:

1. Old Point Financial Corporation, Hampton, Virginia; to acquire Citizens National Bank, Windsor, Virginia.

F. Federal Reserve Bank of St. Louis (David L. Hubbard, Senior Manager) P.O. Box 442, St. Louis, Missouri 63166-2034. Comments can also be sent electronically to Comments.applications@stls.frb.org:

1. Guaranty Federal Bancshares, Inc., Springfield, Missouri; to acquire Hometown Bancshares, Inc., and thereby indirectly acquire Hometown Bank, N.A., both Carthage, Missouri.

Board of Governors of the Federal Reserve System, December 29, 2017.
Ann E. Misback,
Secretary of the Board.

[FR Doc. 2017-28476 Filed 1-3-18; 8:45 am]

BILLING CODE P